FEDERAL COMMUNICATIONS COMMISSION

Sunshine Act Meeting, Open Commission Meeting; Thursday, July 14, 2005

July 7, 2005.

The Federal Communications Commission will hold an Open Meeting on the subjects listed below on Thursday, July 14, 2005, which is scheduled to commence at 9:30 a.m. in Room TW-C305, at 445 12th Street, SW., Washington, DC.

Item No. | Bureau | Subject
1 | Consumer & Governmental Affairs | Title: Telecommunications Relay Services and Speech-to-Speech Services for Individuals with Hearing and Speech Disabilities (CC Docket No. 98-67 and CG Docket No. 3-123).
|  | Summary: The Commission will consider an Order concerning captioned telephone service and the compensation of two-line captioned telephone calls from the Interstate TRS Fund.
2 | Consumer & Governmental Affairs | Title: Telecommunications Relay Services and Speech-to-Speech Services for Individuals with Hearing and Speech Disabilities (CG Docket No. 03-123 and CC Docket No. 98-67).
|  | Summary: The Commission will consider a Report and Order concerning the Commission's rules governing the provision of Video Relay Service, including speed of answer, hours of service, and VRS Mail.
3 | Consumer & Governmental Affairs | Title: Telecommunications Relay Services and Speech-to-Speech Services for Individuals with Hearing and Speech Disabilities (CC Docket No. 98-67 and CG Docket No. 03-123).
|  | Summary: The Commission will consider an Order on Reconsideration concerning the compensation of Spanish translation Video Relay Service from the Interstate TRS Fund.
4 | Consumer & Governmental Affairs | Title: Closed Captioning of Video Programming and Telecommunications for the Deaf, Inc. Petition for Rulemaking.
|  | Summary: The Commission will consider a Notice of Proposed Rulemaking regarding the Commission's closed captioning rules and a related Petition for Rulemaking filed by Telecommunications for the Deaf, Inc. and several other consumer organizations representing deaf and hard of hearing individuals, seeking the establishment of quality standards and compliance mechanisms for closed captioning.
5 | Media | Title: 2002 Biennial Regulatory Review—Review of the Commission's Broadcast Ownership Rules and Other Rules Adopted Pursuant to Section 202 of the Telecommunications Act of 1996 (MB Docket No. 02-277); Cross-Ownership of Broadcast Stations and Newspapers (MM Docket No. 01-235); Rules and Policies Concerning Multiple Ownership of Radio Broadcast Stations in Local Markets (MM Docket No. 01-317); and Definition of Radio Markets (MM Docket No. 00-244).
|  | Summary: The Commission will consider a Further Notice of Proposed Rulemaking concerning its 2002 biennial review of its broadcast ownership rules.

The meeting site is fully accessible to people using wheelchairs or other mobility aids. Meeting agendas and handouts will be provided in accessible formats; sign language interpreters, open captioning, and assistive listening devices will be provided on site. Request other reasonable accommodations for people with disabilities as early as possible; please allow at least 5 days advance notice. Include a description of the accommodation you will need including as much detail as you can. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 05-13854 Filed 7-11-05; 11:26 am]

BILLING CODE 6712-01-P